DEPARTMENT OF ENERGY

Federal Energy Regulatory Commission

[Docket No. EL99-14-005, et al.]

Southwest Electric Cooperative, Inc., et al.; Electric Rate and Corporate Regulation Filings

May 10, 2002.

The following filings have been made with the Commission. The filings are listed in ascending order within each docket classification.

1. Southwestern Electric Cooperative, Inc., Complainant, v. Soyland Power Cooperative, Inc., Respondent.

[Docket No. EL99-14-005]

Take notice that on May 2, 2002, Soyland Power Cooperative, Inc. tendered for filing a Compliance Filing in accordance with the orders issued in the above-captioned docket. See Southwestern Electric Cooperative, Inc. v. Soyland Power Cooperative, Inc., 90 FERC ¶ 63,001 (2000), 95 FERC ¶ 61,254 (2001), 97 FERC ¶ 61,008 (2001), and 99 FERC ¶ 61,001 (2002).

Comment Date: June 3, 2002.

2. Hardee Power Partners Limited

[Docket No. ER99-2341-001]

Take notice that on May 6, 2002, Hardee Power Partners Limited (HPP) tendered for filing an updated market power analysis in accordance with Commission policies applicable to public utilities that are authorized to sell electric power at market-based rates. A copy of the filing has been served on the Florida Public Service Commission.

Comment Date: May 28, 2002.

3. Tampa Electric Company

[Docket No. ER99-2342-001]

Take notice that on May 6, 2002, Tampa Electric Company (Tampa Electric) tendered for filing an updated market power analysis in accordance with Commission policies applicable to public utilities that are authorized to sell electric power at market-based rates.

A copy of the filing has been served on each customer under Tampa Electric's market-based sales tariffs and the Florida Public Service Commission.

Comment Date: May 28, 2002.

4. Portland General Electric Company

[Docket No. ER02-338-003]

Take notice that on May 6, 2002, Portland General Electric Company (PGE) filed with the Federal Energy Regulatory Commission (Commission) corrections to PGE's revised Energy Imbalance Service tariff sheets of its Open Access Transmission Tariff in compliance with the Commission's March 15, 2002 letter order in the above-referenced proceeding.

PGE requests that the Commission make the amended tariff sheets effective as of March 1, 2002.

Comment Date: May 28, 2002.

5. PJM Interconnection, L.L.C.

[Docket No. ER02-1726-000]

Take notice that on May 6, 2002 PJM Interconnection, L.L.C. (PJM), submitted for filing (1) an amended Rock Springs Generating Facility interconnection service agreement to interconnect a 930 MW generating facility located in Rock Springs, Maryland to the PJM system, designated as First Revised Service Agreement No. 610 (Rock Springs ISA) between PJM and the owners of the Rock Springs Generating Facility, and (2) an executed Agreement On Operation of Certain Electric Transmission Facilities among PJM Interconnection L.L.C., Rock Springs Generation, L.L.C. and CED Rock Springs, Inc, (Facilities Operation Agreement), designated as Rate Schedule FERC No. 34. PJM states that the amendment to the Rock Springs ISA modifies the Rock Springs ISA to incorporate all the current owners of the Rock Springs Generating Facility as signatories to the Rock Springs ISA, which the Commission accepted for filing on October 24, 2001, effective May 18, 2001.

PJM Interconnection, L.L.C., 97 FERC § 61,068 (2001). PJM states that the Facilities Operation Agreement transfers to PJM operational control of certain electric transmission facilities that are now under construction in association with the Rock Springs Generating Facility. PJM requests an effective date of April 29, 2002, for the Facilities Operation Agreement.

Copies of this filing were served upon the official service list of Docket No. ER01-3014-000, all members of PJM, and the state electric utility regulatory commissions within the PJM region.

Comment Date: May 28, 2002.

6. Otter Tail Power Company

[Docket No. ER02-1727-000]

Take notice that on May 6, 2002, Otter Tail Power Company (Otter Tail) tendered for filing an executed service agreement with Northern States Power Company, d/b/a Xcel Energy (NSP), for services provided under Otter Tail's Control Area Services and Operations Tariff. Otter Tail requests an effective date of April 6, 2002 for this service agreement.

A copy of the filing was served on representatives of NSP and other affected parties.

Comment Date: May 28, 2002.

7. Otter Tail Power Company

[Docket No. ER02-1728-000]

Take notice that on May 6, 2002, Otter Tail Power Company (Otter Tail) tendered for filing an unexecuted Service Agreement with East Grand Forks Water and Light Department (East Grand Forks) for services provided under Otter Tail's Control Area Services and Operations Tariff. Otter Tail requests an effective date of April 6, 2002 for this service agreement.

A copy of the filing was served on representatives of East Grand Forks and other affected parties.

Comment Date: May 28, 2002.

8. Otter Tail Power Company

[Docket No. ER02-1729-000]

Take notice that on May 6, 2002, Otter Tail Power Company (Otter Tail) tendered for filing an unexecuted service agreement with Minnkota Power Cooperative, Inc. (MPC) for services provided under Otter Tail's Control Area Services and Operations Tariff. Otter Tail requests an effective date of April 6, 2002 for this service agreement.

A copy of the filing was served on representatives of MPC and other affected parties.

Comment Date: May 28, 2002.

9. Otter Tail Power Company

[Docket No. ER02-1730-000]

Take notice that on May 6, 2002, Otter Tail Power Company (Otter Tail) tendered for filing an unexecuted service agreement with Missouri River Energy Services (MRES) for services provided under Otter Tail's Control Area Services and Operations Tariff. Otter Tail requests an effective date of April 6, 2002 for this service agreement.

A copy of the filing was served on representatives of MRES and other affected parties.

Comment Date: May 28, 2002.

10. Otter Tail Power Company

[Docket No. ER02-1731-000]

Take notice that on May 6, 2002, Otter Tail Power Company (Otter Tail) tendered for filing an unexecuted service agreement with East River Electric Power Cooperative, Inc. (EREPC) for services provided under Otter Tail's Control Area Services and Operations Tariff. Otter Tail requests an effective date of April 6, 2002 for this service agreement.

A copy of the filing was served on representatives of EREPC and other affected parties.

Comment Date: May 28, 2002.

11. Otter Tail Power Company

[Docket No. ER02-1732-000]

Take notice that on May 6, 2002, Otter Tail Power Company (Otter Tail) tendered for filing an unexecuted service agreement with Great River Energy (GRE) for services provided under Otter Tail's Control Area Services and Operations Tariff. Otter Tail requests an effective date of April 6, 2002 for this service agreement.

A copy of the filing was served on representatives of GRE and other affected parties.

Comment Date: May 28, 2002.

12. Otter Tail Power Company

[Docket No. ER02-1733-000]

Take notice that on May 6, 2002, Otter Tail Power Company (Otter Tail) tendered for filing an unexecuted service agreement with Central Power Electric Cooperative (CPEC) for services provided under Otter Tail's Control Area Services and Operations Tariff. Otter Tail requests an effective date of April 6, 2002 for this service agreement.

A copy of the filing was served on representatives of CPEC and other affected parties.

Comment Date: May 28, 2002.

13. Midwest Independent Transmission System Operator, Inc.

[Docket No. ER02-1734-000]

Take notice that on May 6, 2002, pursuant to Section 205 of the Federal Power Act and Section 35.13 of the Commission's regulations, 18 CFR 35.13, the Midwest Independent Transmission System Operator, Inc. (Midwest ISO) submitted for filing a Service Agreement for the transmission service requested by California Electric Marketing, LLC.

A copy of this filing was sent to California Electric Marketing, LLC.

Comment Date: May 28, 2002.

14. Midwest Independent Transmission System Operator, Inc.

[Docket No. ER02-1735-000]

Take notice that on May 6, 2002, pursuant to section 205 of the Federal Power Act and section 35.13 of the Federal Energy Regulatory Commission's (Commission) regulations, 18 CFR 35.13, the Midwest Independent Transmission System Operator, Inc. (Midwest ISO) submitted for filing Service Agreements for the transmission service requested by The Empire District Electric Company.

A copy of this filing was sent to The Empire District Electric Company.

Comment Date: May 28, 2002.

15. Midwest Independent Transmission System Operator, Inc.

[Docket No. ER02-1736-000]

Take notice that on May 6, 2002, pursuant to section 205 of the Federal Power Act and section 35.13 of the Commission's regulations, 18 CFR 35.13, the Midwest Independent Transmission System Operator, Inc. (Midwest ISO) submitted for filing Service Agreements for the transmission service requested by RWE Trading Americas, Inc.

A copy of this filing was sent to RWE Trading Americas, Inc.

Comment Date: May 28, 2002.

16. Midwest Independent Transmission System Operator, Inc.

[Docket No. ER02-1737-000]

Take notice that on May 6, 2002, pursuant to Section 205 of the Federal Power Act and Section 35.13 of the Commission's regulations, 18 CFR 35.13, the Midwest Independent Transmission System Operator, Inc. (Midwest ISO) submitted for filing Service Agreements for the transmission service requested by Sikeston Board of Municipal Utilities.

A copy of this filing was sent to Sikeston Board of Municipal Utilities.

Comment Date: May 28, 2002.

17. Midwest Independent Transmission System Operator, Inc.

[Docket No. ER02-1738-000]

Take notice that on May 6, 2002, pursuant to section 205 of the Federal Power Act and section 35.13 of the Commission's regulations, 18 CFR 35.13, the Midwest Independent Transmission System Operator, Inc. (Midwest ISO) submitted for filing a Service Agreements for the transmission service requested by UBS AG, London Branch.

A copy of this filing was sent to UBS AG, London Branch.

Comment Date: May 28, 2002.

18. Midwest Independent Transmission System Operator, Inc.

[Docket No. ER02-1739-000]

Take notice that on May 6, 2002, pursuant to Section 205 of the Federal Power Act and Section 35.13 of the Commission's regulations, 18 CFR 35.13, the Midwest Independent Transmission System Operator, Inc. (Midwest ISO) submitted for filing Service Agreements for the transmission service requested by Virginia Electric and Power Company.

A copy of this filing was sent to Virginia Electric and Power Company.

Comment Date: May 28, 2002.

19. Midwest Independent Transmission System Operator, Inc.

[Docket No. ER02-1740-000]

Take notice that on May 6, 2002, pursuant to section 205 of the Federal Power Act and section 35.13 of the Commission's regulations, 18 CFR 35.13, the Midwest Independent Transmission System Operator, Inc. (Midwest ISO) submitted for filing a Service Agreements for the transmission service requested by Western Resources, Inc. dba Westar Energy.

A copy of this filing was sent to Western Resources, Inc. dba Westar Energy.

Comment Date: May 28, 2002.

20. Nevada Power Company

[Docket No. ER02-1741-000]

Take notice that on May 6, 2002, Nevada Power Company tendered for filing four executed second Letters of Understanding between Nevada Power Company and the following generators: (1) Las Vegas Cogeneration II; (2) Mirant Las Vegas, LLC; (3) Duke Energy Moapa, LLC; and (4) Reliant Energy Bighorn, LLC. The Letters of Understanding are submitted as Service Agreement Nos. 119 through 122, respectively, to Nevada Power's Open Access Transmission Tariff. Nevada Power requests that the Letters of Understanding be made effective as of the execution date of each agreement.

Comment Date: May 28, 2002.

21. Nevada Power Company

[Docket No. ER02-1742-000]

Take notice that on May 6, 2002, Nevada Power Company tendered for filing five Memoranda of Understanding between Nevada Power Company and the following five generators: (1) Las Vegas Cogeneration II, LLC; (2) Duke Energy Moapa, LLC; (3) Mirant Las Vegas, LLC; (4) Reliant Energy Bighorn, LLC; and (5) GenWest, LLC. The MOUs are submitted as Service Agreement Nos. 123 through 127, respectively, to Nevada Power's Open Access Transmission Tariff. Nevada Power requests that the Memoranda of Understanding be made effective on the filing date of each agreement, or May 6, 2002.

Comment Date: May 28, 2002.

22. Avista Corp.

[Docket No. ER02-1743-000]

Take notice that on May 6, 2002, Avista Corporation (AVA) tendered for filing with the Federal Energy Regulatory Commission executed Service Agreements for Short-Term Firm and Non-Firm and Point-To-Point Transmission Service under AVA's Open Access Transmission Tariff—FERC Electric Tariff, Volume No. 8 with FPL Energy Power Marketing. AVA requests the Service Agreements be given an effective date of April 1, 2002.

Comment Date: May 28, 2002.

23. Northwestern Wisconsin Electric Company

[Docket No. ER02-1744-000]

Take notice that Northwestern Wisconsin Electric Company, on May 2, 2002, tendered for filing proposed changes in its Transmission Use Charge, Rate Schedule FERC No. 2. The proposed changes would decrease revenues from jurisdictional sales by $1,422.07 based on the 12 month period ending April 30, 2002. Northwestern Wisconsin Electric Company is proposing this rate schedule change to more accurately reflect the actual cost of transmitting energy from one utility to another based on current cost data. The service agreement for which this rate is calculated calls for the Transmission Use Charge to be reviewed annually and revised on May 1.

Northwestern Wisconsin Electric Company requests this Rate Schedule Change become effective May 1, 2002.

Copies of this filing have been provided to the respective parties and to the Public Service Commission of Wisconsin.

Comment Date: May 28, 2002.

24. PPL Shoreham Energy, LLC

[Docket No. ER02-1747-000]

On May 6, 2002, PPL Shoreham Energy, LLC filed with the Federal Energy Regulatory Commission (Commission) an application for authority to sell electric energy, capacity and certain ancillary services at market-based rates.

Comment Date: May 28, 2002.

25. Southwest Power Pool, Inc.

[ER02-1748-000]

Take notice that on May 6, 2002, Southwest Power Pool, Inc. (SPP) submitted for filing a filing three revised service agreements for Firm Point-to-Point Transmission Service with Southwest Public Service Company d.b.a. Xcel Energy (Transmission Customer). SPP seeks an effective date of April 26, 2002 for these service agreements.

The Transmission Customer was served with a copy of this filing.

Comment Date: May 28, 2002.

26. PPL Edgewood Energy, LLC

[Docket No. ER02-1749-000]

On May 6, 2002, PPL Edgewood Energy, LLC filed with the Federal Energy Regulatory Commission (Commission) an application for authority to sell electric energy, capacity and certain ancillary services at market-based rates.

Comment Date: May 28, 2002.

27. Boston Edison Company

[Docket No. ES02-33-000]

Take notice that on April 30, 2002, Boston Edison Company submitted an application pursuant to section 204 of the Federal Power Act seeking authorization to issue short-term debt in an amount not to exceed $350 million during a two-year period.

Comment Date: May 24, 2002.

28. Cambridge Electric Light Company

[Docket No. ES02-34-000]

Take notice that on April 30, 2002, Cambridge Electric Light Company submitted an application pursuant to section 204 of the Federal Power Act seeking authorization to issue short-term debt securities in an amount not to exceed $60 million during a two-year period.

Comment Date: May 24, 2002.

29. Commonwealth Electric Company

[Docket No. ES02-35-000]

Take notice that on April 30, 2002, Commonwealth Electric Company submitted an application pursuant to section 204 of the Federal Power Act seeking authorization to issue short-term debt securities in an amount not exceeding $125 million during a two year period.

Comment Date: May 24, 2002.

30. Consumers Energy Company

[Docket No. ES02-36-000]

Take notice that on May 2, 2002, Consumers Energy Company (Consumers) submitted an application pursuant to section 204 of the Federal Power Act seeking authorization to issue up to $2.7 billion of long-term securities, including but not limited to, term loans, first mortgage bonds, stocks, preferred securities and notes.

Consumers also requests a waiver from the Commission's competitive bidding and negotiated placement requirements at 18 CFR 34.2.

Comment Date: May 31, 2002.

31. Consumers Energy Company

[Docket No. ES02-37-000]

Take notice that on May 2, 2002, Consumers Energy Company submitted an application pursuant to section 204 of the Federal Power Act seeking authorization to issue short-term securities in an amount not to exceed $1.1 billion at any one time.

Comment Date: May 31, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-12523 Filed 5-17-02; 8:45 am]

BILLING CODE 6717-01-P